ENVIRONMENTAL PROTECTION AGENCY

40 CFR Part 52

[EPA-R01-OAR-2024-0051; FRL-12403-01-R1]

Air Plan Approval; Connecticut; Approval of State Implementation Plan Requirements for the 2008 Ozone Standard

AGENCY: Environmental Protection Agency (EPA).

ACTION: Proposed rule.

SUMMARY: The Environmental Protection Agency (EPA) is proposing to approve State Implementation Plan (SIP) revisions submitted by the State of Connecticut. The SIP revisions are for the Connecticut portion of the New York-Northern New Jersey-Long Island, NY-NJ-CT Serious ozone nonattainment area for the 2008 ozone standard. The revisions pertain to requirements relating to reasonable further progress (RFP) plans, an Enhanced vehicle emissions inspection and maintenance (I/M) program, transportation conformity, and a clean fuels for motor vehicles program. EPA is also starting the adequacy process for the motor vehicle emissions budgets included in the RFP SIP revision. This action is being taken under the Clean Air Act.

DATES: Written comments must be received on or before December 23, 2024.

ADDRESSES: Submit your comments, identified by Docket ID No. EPA-R01-OAR-2024-0051 at https://www.regulations.gov, or via email to: mcconnell.robert@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Bob McConnell, Environmental Engineer, Air Quality Branch, (Mail Code 5-MD), U.S. Environmental Protection Agency, Region 1, 5 Post Office Square, Suite 100, Boston, Massachusetts, 02109-3912; (617) 918-1046; mcconnell.robert@epa.gov.

SUPPLEMENTARY INFORMATION: Throughout this document whenever “we,” “us,” or “our” is used, we mean EPA.

Table of Contents

I. Background

II. Description of State's Submittals

III. Evaluation of State's Submittals

A. Reasonable Further Progress Plans

B. RFP Motor Vehicle Emissions Budgets/Transportation Conformity

C. Inspection and Maintenance (I/M) Program

D. Clean Fuels Program

IV. Proposed Action

V. Statutory and Executive Order Reviews

I. Background

On March 12, 2008, the EPA revised both the primary and secondary National Ambient Air Quality Standards (NAAQS) for ozone to a level of 0.075 parts per million (ppm) (annual fourth-highest daily maximum 8-hour average concentration, averaged over three years) to provide increased protection of public health and the environment (73 FR 16436, March 27, 2008). The 2008 ozone NAAQS retains the same general form and averaging time as the 0.08 ppm NAAQS set in 1997, but is set at a more protective level. Under the EPA's regulations at 40 CFR part 50, the 2008 8-hour ozone NAAQS is attained when the 3-year average of the annual fourth highest daily maximum 8-hour average ambient air quality ozone concentrations is less than or equal to 0.075 ppm. See 40 CFR 50.15.

Effective July 20, 2012, the EPA designated as nonattainment any area that was violating the 2008 8-hour ozone NAAQS based on the three most recent years (2008-2010) of air monitoring data (77 FR 30088, May 21, 2012). With that rulemaking, three counties within Connecticut, Fairfield, Middlesex, and New Haven Counties, were included within a nonattainment area described as the New York-N. New Jersey-Long Island NY-NJ-CT area and were designated as a Marginal ozone nonattainment area. For brevity, in the remainder of this notice we refer to this area as the NY-NJ-CT area. Areas that were designated as Marginal nonattainment were required to attain the 2008 8-hour ozone NAAQS no later than July 20, 2015, based on 2012-2014 monitoring data. On May 14, 2016 (81 FR 26697), the EPA published its determination that the NY-NJ-CT area, as well as other nonattainment areas in the country, had failed to attain the 2008 8-hour ozone NAAQS by the Marginal area attainment deadline, and so these areas were reclassified to Moderate ozone nonattainment areas. See 40 CFR 81.306. Moderate areas were required to attain the 2008 8-hour ozone NAAQS by no later than six years after the effective date of designations, or July 20, 2018. See 40 CFR 51.903. Subsequently, on August 23, 2019 (84 FR 44238), the EPA published its determination that the NY-NJ-CT area, as well as other nonattainment areas in the country, had failed to attain the 2008 8-hour ozone NAAQS by the Moderate area attainment deadline, and so these areas were reclassified as Serious ozone nonattainment areas. Serious areas were required to attain the 2008 8-hour ozone NAAQS by no later than nine years after the effective date of designations, or July 20, 2021. Furthermore, on October 7, 2022 (87 FR 60926), the EPA published its determination that the NY-NJ-CT area, as well as other nonattainment areas in the country, had failed to attain the 2008 8-hour ozone NAAQS by the Serious area attainment deadline, and so these areas were reclassified as Severe ozone nonattainment areas. Severe areas are required to attain the 2008 8-hour ozone NAAQS by no later than 15 years after the effective date of designations, or July 20, 2027. See 40 CFR 51.903. However, Connecticut's SIP submittal, and EPA's proposed approval, relates to obligations under the CAA as a result of the area's prior reclassification to Serious. Additional SIP obligations are anticipated from the State as a result of the area's most recent reclassification to Severe.

II. Description of State's Submittals

Clean Air Act (CAA) section 182, subpart 2, outlines SIP requirements applicable to ozone nonattainment areas in each classification category. Requirements for each type of classification area were established under the provisions of the EPA's ozone implementation rule for the 2008 8-hour ozone NAAQS (40 CFR part 51, subpart AA). Examples of these requirements include submission of a reasonable further progress plan, and controls on stationary sources that represent reasonably available control technology (RACT).

On June 23, 2022, Connecticut submitted SIP revisions required due to the State's classification as a Serious nonattainment area for the 2008 ozone standard that included an RFP plan with motor vehicle emissions budgets (“budgets”), the I/M program certification, and a certification that the State's previously adopted clean fuels program continues to meet CAA requirements. EPA is proposing approval of these items for the reasons articulated below. Connecticut's June 23, 2022, submittal also contained other SIP revisions, but today we are proposing action on only the items mentioned above.

On November 17, 2022, Connecticut submitted a supplement to the June 23, 2022 SIP submittal; the November 17, 2022 supplement consists of a modeling analysis comparing the Connecticut I/M program to the Federal Enhanced I/M performance standard.

On December 12, 2023, Connecticut submitted a clarification letter as a supplement to the June 23, 2022 RFP SIP submittal. The December 12, 2023 supplement clarified that motor vehicle emissions budgets were being submitted only for the Connecticut portion of the NY-NJ-CT nonattainment area. The December 12, 2023 supplement also included a revised version of the RFP plan to replace section 9 of the June 23, 2022 SIP submittal.

The RFP plan contained within Connecticut's submittal documents showed that a nine percent (9%) reduction in ozone precursor emissions occurred over the three-year time period from 2018 to 2020 relative to emissions in 2011. Table 9-2 of the State's submittal illustrates the oxides of nitrogen (NOX) and volatile organic compounds (VOCs) emission target levels that needed to be met by 2020 for the State to meet its RFP emission reduction obligation, and table 9-4 provides a comparison of 2020 emission levels to these targets and confirms that the State did meet these targets, and furthermore, was considerably below them. Regarding transportation conformity, Connecticut's RFP SIP submittal establishes motor vehicle emissions budgets for 2020 for the Connecticut portion of the NY-NJ-CT nonattainment area that are more restrictive than the previous budgets that EPA approved for 2017 on October 1, 2018 (see 83 FR 49297), and also notes that the State provides a two percent (2%) contingency buffer to account for uncertainties inherent to the creation of these budgets. The Connecticut Department of Energy and Environmental Protection notes that it works with the State's Department of Transportation to ensure that emissions from transportation projects do not exceed the motor vehicle emissions budgets it establishes.

Regarding vehicle emissions I/M program, Connecticut's submittal notes that it implements a statewide program that meets EPA's Enhanced I/M performance specifications pursuant to State authority codified within the Regulations of Connecticut State Agencies (RCSA) at section 22a-174-27 and the Connecticut General Statutes at 14-164c. The aforementioned November 17, 2022 supplement includes additional technical support regarding Connecticut conducting performance standard modeling to support its June 23, 2022 I/M certification submittal. Regarding a clean fuels program, Connecticut's submittal documents that its previously adopted and SIP approved program continues to meet CAA requirements. These SIP revisions and associated supporting documents are available in the docket for this action, at https://www.regulations.gov, docket number EPA-R01-OAR-2024-0051. Section III discusses our evaluation of these SIP submittals from Connecticut.

III. Evaluation of State's Submittals

A. Reasonable Further Progress Plans

Section 182(b)(1) of the CAA and the EPA's 2008 Ozone Implementation Rule require that States submit an RFP demonstration for each 8-hour ozone nonattainment area designated moderate and above, for review and approval into its SIP, that describes how the area will achieve actual emissions reductions of VOC and NOX from a baseline emissions inventory. The 2008 Ozone Implementation Rule sets 2011 as the base year against which RFP emission reductions are measured, and EPA approved Connecticut's 2011 base year emissions inventory into the Connecticut SIP on October 1, 2018 (see 83 FR 49297). Additionally, EPA approved Connecticut's initial RFP plan for the 2008 NAAQS, which demonstrated a 15% reduction in ozone precursor emissions that occurred between 2012-2017, within the same October 1, 2018 action mentioned above.

In addition to demonstrating the 15% emission reduction described above, ozone nonattainment areas classified as Serious or higher must also demonstrate that additional reductions in ozone precursor emissions occur that average three percent (3%) per year beginning in the seventh year after designation and lasting until the area's attainment date, which for Serious areas occurs nine years after designation. After taking into consideration the 15% emission reduction that was previously documented to occur between 2011 and 2018, Connecticut's submittal demonstrates that RFP was achieved for the second RFP increment by showing that ozone precursor emissions declined by a total of 24 percent (15% between 2011 and 2017, plus 9% between 2018 and 2020) between 2011 and 2020. Connecticut set its ozone precursor target levels to reflect a 16% reduction in NOX emissions, and an 8% reduction in VOC emissions would occur by 2020. As noted below, Connecticut's RFP plan illustrates that Connecticut achieved a greater reduction in ozone precursor emissions than this amount over the nine-year period from 2011 to 2020.

One aspect of the RFP plan includes estimating emissions for the year 2020. Connecticut relied primarily on the emissions projection work it had developed and submitted to the Mid-Atlantic Regional Air Management Association (MARAMA), which is a regional organization that assists the mid-Atlantic and Northeast States with the development of emissions modeling files for use in ozone modeling. The projection of emissions from electrical generating units (EGUs) was accomplished using a forecasting tool developed by the Eastern Regional Technical Advisory Group (ERTAC) which is made up of technical staff from the Northeast and mid-Atlantic States, including Connecticut, with expertise in the emissions, controls, and projection of emissions from electrical generating units. Connecticut accounted for emissions held within its emissions offsets bank that are available for use as emissions offsets within the RFP analysis.

Table 1 below contains a summary of the 2011 RFP baseline inventory, 2020 target levels incorporating the eight percent (8%) VOC and 16% NOX emission reductions, and 2020 projected, controlled emissions for the Connecticut portion of the NY-NJ-CT nonattainment area. Connecticut's RFP analysis shows that projected, controlled VOC and NOX emissions in 2020 will be well below the emission target levels, thereby demonstrating that RFP has been met. Note that we are only proposing action on the Connecticut portion of the RFP plan for the NY-NJ-CT area.

Table 1—Summary of RFP Calculations for CT's Portion of the NY-NJ-CT Nonattainment Area
Description | VOC emissions (tons/summer day) | NOX emissions (tons/summer day)
RFP 2011 Baseline inventory | 115.6 | 115.1
2020 target level of emissions | 106.4 | 96.7
2020 projected, controlled emissions | 83.9 | 60.4

RFP plans must include budgets, which identify the allowable on-road mobile emissions an area can produce and continue to demonstrate RFP. The State's RFP plan includes budgets for the Connecticut portion of the NY-NJ-CT nonattainment area for 2020. The budgets are discussed in detail in section III.B of this notice.

B. RFP Motor Vehicle Emissions Budgets/Transportation Conformity

Transportation conformity is required by section 176(c) of the CAA. Conformity to a SIP means conformity to an implementation plan's purpose of eliminating or reducing the severity and number of violations of the NAAQS and achieving expeditious attainment of the NAAQS, and that transportation activities will not produce new air quality violations, worsen existing violations, or delay timely attainment of the NAAQS or any required interim emission reductions or other milestones in any area. (CAA 176(c)(1)(A) and (B)). The EPA's conformity rule at 40 CFR part 93, subpart A requires that transportation plans, transportation improvement programs, and projects conform to SIPs and establishes the criteria and procedures for determining whether or not they conform. To effectuate its purpose, the conformity rule requires a demonstration that emissions from the metropolitan planning organization's (MPO) Regional Transportation Plan (RTP) and the Transportation Improvement Program (TIP) are consistent with the budgets contained in the control strategy SIP revision or maintenance plan (40 CFR 93.101, 93.118, and 93.124). The term “Motor vehicle emissions budget” is defined in 40 CFR 93.101 as “that portion of the total allowable emissions defined in the submitted or approved control strategy . . . [SIP] or maintenance plan for a certain date for the purpose of meeting reasonable further progress milestones or demonstrating attainment or maintenance of the NAAQS, for any pollutant or its precursors, allocated to highway and transit vehicle use and emissions.”

The RFP plan submitted by Connecticut is a control strategy SIP, and it contains 2020 budgets for VOCs and NOX for the Connecticut portion of the NY-NJ-CT nonattainment area. Table 2 contains these VOC and NOX budgets, based on MOVES2014b, in units of tons per summer day:

Table 2—Motor Vehicle Emissions Budgets in the Connecticut RFP Plan
Area name | 2020 Transportation conformity budgets (tons/day): VOC | 2020 Transportation conformity budgets (tons/day): NOX
NY-NJ-CT area (CT portion) Without Contingency Buffer | 17.3 | 22.8
NY-NJ-CT area (CT portion) With Contingency Buffer | 17.6 | 23.3

In this action, we are proposing approval of the 2020 budgets for VOC and NOX for the Connecticut portion of the NY-NJ-CT nonattainment area shown in table 2 above. As part of this action, EPA is also initiating the adequacy process for these 2020 budgets providing opportunity for the public to review and comment. The criteria we use to determine whether a SIP's budgets are adequate for conformity purposes are outlined in 40 CFR 93.118(e)(4). We further described our process for determining the adequacy of submitted SIP budgets in 40 CFR 93.118(f). The public can comment on the adequacy of budgets, along with EPA's proposed approval of the budgets, during the comment period defined in the DATES section above.

C. Inspection and Maintenance (I/M) Program

The goal of I/M programs is to identify and repair high-emitting vehicles to improve air quality in areas that are not attaining the NAAQS.¹

¹ For more information, see Overview of Vehicle Inspection and Maintenance (I/M) Programs (EPA-420-F-21-067, October 2021) at https://nepis.epa.gov/Exe/ZyPDF.cgi?Dockey=P1013CC0.pdf.

Section 182(c)(3) of the CAA requires States with ozone nonattainment areas classified as Serious or above to implement an Enhanced I/M program to reduce VOC and NOX emissions from in-use motor vehicles registered in urbanized portions of the nonattainment area. The Federal rules addressing I/M program requirements are provided at 40 CFR part 51, subpart S. Under these requirements, Serious ozone nonattainment areas in urbanized areas with 1980 Census-defined urbanized populations of 200,000 or more are required to adopt Enhanced I/M programs (40 CFR 51.350(a)(2)).

Similarly, pursuant to CAA section 182(b)(4), States with ozone nonattainment areas classified as Moderate are required to implement a Basic I/M program in certain applicable areas. To address this Basic I/M requirement for the Connecticut portion of the NY-NJ-CT 2008 ozone NAAQS Moderate nonattainment area, Connecticut submitted a SIP revision on August 8, 2017. Due to more stringent nonattainment classifications under previous NAAQS and Connecticut's inclusion as part of the Ozone Transport Region (OTR), Connecticut already had been implementing an Enhanced I/M program.² On March 29, 2019, at 84 FR 11884, EPA approved Connecticut's certification that the State's vehicle emissions I/M program implemented via the regulation and statute mentioned above satisfied the CAA's requirement for Moderate ozone nonattainment areas and for States located within the Ozone Transport Region (OTR).

² Connecticut was required to implement an Enhanced I/M program as a result of having state-wide designations of serious and severe for the 1979 1-hour ozone NAAQS. Furthermore, because Connecticut is in the OTR, CAA section 184(b)(1) requires implementation of an Enhanced I/M program in some portions of the State. Connecticut's state-wide Enhanced I/M program was initially approved into the Connecticut SIP on December 5, 2008 (73 FR 74019).

Connecticut's I/M certification submittal of June 23, 2022, being proposed for approval here, notes that although the OTR requirements of the CAA include a requirement that Enhanced I/M programs be implemented within metropolitan statistical areas with populations exceeding 100,000, the State implements Enhanced I/M statewide and thus the I/M program is SIP-strengthening and more stringent than required. Connecticut's Enhanced I/M program tests gasoline-fueled and diesel-fueled motor vehicles up to 10,000 pounds gross vehicle weight rating (GVWR), requires on-board diagnostic testing on Model Year (MY) 1996 and newer vehicles, and requires more comprehensive tailpipe testing on MY 1995 and older vehicles. The Enhanced I/M program also implements an emissions control device inspection through visual inspection for the presence of catalytic converter(s) and other major emissions control equipment. More details of the State's Enhanced I/M program may be found in section 6 of Connecticut's June 23, 2022, submittal. The State's submittal also attests that Connecticut's I/M program complies with all applicable CAA and I/M rule requirements for Enhanced I/M programs.

On November 17, 2022, Connecticut submitted supplemental documentation containing an I/M performance standard modeling analysis using EPA's latest mobile source emissions model at the time of the analysis (MOVES3). To demonstrate that the Connecticut Enhanced I/M program meets the Enhanced program performance standard described in 40 CFR 51.351, the Connecticut program must be modeled to show that, it achieves the same or lower emission rates of VOC and NOX as the Federal model Enhanced program to within 0.02 grams per mile for the area's total vehicle miles travelled on a July weekday in the appropriate analysis year. Connecticut's supplemental demonstration shows that the State's I/M program meets the applicable Enhanced I/M performance standard requirements for the 2008 ozone NAAQS for the analysis years of 2020, 2023, and 2025.

Table 3 contains the results of the performance standard modeling, which illustrates that the Connecticut I/M program achieves the same or lower emission rates as the Federal model Enhanced program to within 0.02 grams per mile.

Table 3—I/M Performance Standard Evaluation Emission Rates
| CT's portion of the NY-NJ-CT nonattainment area: Current Connecticut I/M program | CT's portion of the NY-NJ-CT nonattainment area: Enhanced performance standard
I/M Performance Standard Evaluation Emission Rates (grams/mile)
2020 Summer
VOC | 0.364 | 0.369
CO | 3.772 | 4.333
NOX | 0.267 | 0.265
2023 Summer
VOC | 0.230 | 0.227
CO | 3.143 | 3.615
NOX | 0.279 | 0.278
2025 Summer
VOC | 0.211 | 0.207
CO | 2.783 | 3.203
NOX | 0.238 | 0.236

Based on our review, we find that State's modeling analysis showed that the State I/M program was modeled appropriately; modeling inputs accurately reflected the vehicles subject to I/M testing and emission reductions from the State program were greater than or equal to the I/M benchmark program for the Enhanced performance standard. This modeling was consistent with the most current guidance at the time of, and we concur with the State's determination that the Connecticut I/M program meets the performance standard and requirements for Enhanced I/M. We therefore propose approval of the I/M SIP certification.

D. Clean Fuels Program

CAA section 182(c)(4) requires States with ozone nonattainment areas classified as Serious or above with 1980 populations greater than 250,000 to submit a SIP revision to either “include such measures as may be necessary to ensure the effectiveness of the applicable provisions of the clean-fuel vehicle program prescribed under part C of subchapter II of this chapter” or to provide “a substitute for all or a portion of the clean-fuel vehicle program prescribed under part C of subchapter II of this chapter.” In light of this requirement, Connecticut adopted the Low Emission Vehicle and Zero Emission Vehicle programs as set out in RCSA section 22a-174-36c (see 89 FR 57361, July 15, 2024). Connecticut submitted these programs and EPA has approved them into the Connecticut SIP,³ thereby fulfilling requirements for Serious ozone nonattainment areas based on the State's past classification as Severe for the one-hour ozone standard. Pursuant to guidance issued by EPA in June of 2022 entitled, “Guidance for Fulfilling the Clean Fuel Fleets Requirement of the Clean Air Act” (see EPA-420-B-22-027, June 2022), EPA's current Clean Fuels Fleets regulations in 40 CFR part 88 provide a compliance option where vehicles and engines certified to current standards under 40 CFR parts 86 and 1036 are deemed to also meet the Clean Fuels Fleets standards as ultra low-emission vehicles. Connecticut's adoption of the Low Emission Vehicle and Zero Emission Vehicle programs as set out in RCSA section 22a-174-36c, constitutes as vehicles meeting more stringent emission standards than those found under vehicles certified to meeting 40 CFR parts 86 and 1036 emission standards. Therefore, the purchase of any new light-duty or heavy-duty vehicle in Connecticut would provide emission reductions equivalent to or greater than a new vehicle that would have been certified to the CAA's ultra-low clean-fuel vehicle emission standards.

³ Connecticut's Low Emission Vehicles and Zero Emission Vehicles Programs was most recently approved into the Connecticut SIP on July 15, 2024 (see 89 FR 57361).

IV. Proposed Action

EPA is proposing to approve Connecticut's RFP plan for the 2018 to 2020 timeframe, motor vehicle emissions budgets for 2020, certification of its Enhanced I/M program, and clean fuels program certification. EPA is also starting the adequacy process for the 2020 budgets. EPA is soliciting public comments on the issues discussed in this notice and on other relevant matters. These comments will be considered before taking final action. Interested parties may participate in the Federal rulemaking procedure by submitting written comments to this proposed rule by following the instructions listed in the ADDRESSES section of this Federal Register.

V. Statutory and Executive Order Reviews

Under the Clean Air Act, the Administrator is required to approve a SIP submission that complies with the provisions of the Act and applicable Federal regulations. See 42 U.S.C. 7410(k); 40 CFR 52.02(a). Thus, in reviewing SIP submissions, EPA's role is to approve State choices, provided that they meet the criteria of the Clean Air Act. Accordingly, this proposed action merely approves State law as meeting Federal requirements and does not impose additional requirements beyond those imposed by State law. For that reason, this proposed action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where EPA or an Indian tribe has demonstrated that a tribe has jurisdiction. In those areas of Indian country, the rulemaking does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on communities with environmental justice (EJ) concerns to the greatest extent practicable and permitted by law. EPA defines EJ as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The Connecticut DEEP did not evaluate environmental justice considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for communities with EJ concerns.

List of Subjects in 40 CFR Part 52

Environmental protection, Air pollution control, Incorporation by reference, Nitrogen dioxide, Ozone, Volatile organic compounds.

Dated: November 14, 2024.
David Cash,
Regional Administrator, EPA Region 1.

[FR Doc. 2024-27050 Filed 11-20-24; 8:45 am]

BILLING CODE 6560-50-P